DEPARTMENT OF ENERGY

Federal Energy Regulatory Commission

[Project No. 539-015]

Lock 7 Hydro Partners, LLC; Notice Soliciting Scoping Comments

Take notice that the following hydroelectric application has been filed with the Commission and is available for public inspection.

a. Type of Application: New Major License.

b. Project No.: 539-015.

c. Date Filed: April 30, 2020.

d. Applicant: Lock 7 Hydro Partners, LLC (Lock 7 Hydro).

e. Name of Project: Mother Ann Lee Hydroelectric Station Water Power Project (Mother Ann Lee Project).

f. Location: The project is located on the Kentucky River in Mercer, Jessamine, and Garrard Counties, Kentucky. The project does not occupy federal land.

g. Filed Pursuant to: Federal Power Act 16 U.S.C. 791 (a)-825(r).

h. Applicant Contact: David Brown Kinloch, Lock 7 Hydro, 414 S Wenzel St., Louisville, Kentucky 40204; (502) 589-0975 or kyhydropower@gmail.com.

i. FERC Contact: Joshua Dub at (202) 502-8138 or joshua.dub@ferc.gov.

j. Deadline for filing scoping comments: February 25, 2021.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Mother Ann Lee Project (P-539-015).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The Mother Ann Lee Project consists of the following existing facilities: (1) A reservoir with a surface area of 777 acres and a storage capacity of 5,828 acre-feet at elevation 513.12 NGVD 29 (National Geodetic Vertical Datum of 1929); (2) a 250-foot-long, 15.3-foot-high, timber crib dam with a concrete cap and an abandoned 62-foot-long lock structure on the east side; (3) a 120-foot-long, 100-foot-wide forebay; (4) a 24-foot-tall, 84-foot-wide trashrack; (5) a 93-foot-long, 25-foot-wide, 16-foot-high powerhouse integral with the dam containing three generating units with a total installed capacity of 2,210 kilowatts; (6) a 30-foot-long, 15.3-foot-high concrete spillway section from the powerhouse to the west shore; (7) an 85-foot-long substation; and (8) a 34.5 kilovolt, 4,540-foot-long transmission line. The project is estimated to generate an average of 9,200 megawatt-hours annually.

m. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process: Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. Due to restrictions on mass gatherings related to COVID-19, we do not intend to conduct a public scoping meeting and site visit in this case. Instead, we are soliciting written comments and suggestions on the preliminary list of issues and alternatives to be addressed in the NEPA document, as described in scoping document 1 (SD1), issued January 26, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: January 26, 2021.
Kimberly D. Bose,
Secretary.

[FR Doc. 2021-02062 Filed 1-29-21; 8:45 am]

BILLING CODE 6717-01-P